MERIT SYSTEMS PROTECTION BOARD

Agency Information Collection Activities; Proposed Collection

AGENCY: Merit Systems Protection Board (MSPB).

ACTION: Notice.

SUMMARY: In compliance with the Paperwork Reduction Act (44 U.S.C. 3501), this document announces that an Information Collection Request (ICR) has been forwarded to the Office of Management and Budget (OMB) for review and approval. This is a request for a new collection. This ICR describes the nature of the information collection and its estimated burden and cost.

DATES: MSPB has submitted an ICR to OMB for review and approval according to the procedures prescribed in 5 CFR 1320.12. On September 12, 2006 (Federal Register, Volume 71, Number 176, page 53712-53713), MSPB sought comments on this ICR pursuant to 5 CFR 1320.8(d). MSPB received no comments. Additional comments should be submitted on or before December 18, 2006 to OMB (Brenda Aguilar at baguilar@omb.eop.gov or fax (202) 395-6974).

ADDRESSES: You may also submit comments to MSPB via any of the following methods:

E-mail: mspb.study@mspb.gov. Include “Employee Surveys” in the subject line of the message.

Fax: (202) 653-7211.

Mail: Cynthia Ferentinos, U.S. Merit Systems Protection Board, Suite 500, 1615 M St., NW., Washington, DC 20419.

FOR FURTHER INFORMATION CONTACT: For information on the survey questions, contact Cynthia Ferentinos by phone on 202-653-6772, ext. 1334, by fax on 202-653-7211, or by e-mail at cynthia.ferentinos@mspb.gov. You may contact Ms. Ferentinos V/TDD at 1-800-877-8339.

SUPPLEMENTARY INFORMATION: Proposed Project: “Career Advancement Survey of Federal Employees”

As part of its purpose, MSPB is responsible for conducting studies of the Federal civil service to ensure that all Federal government agencies follow merit systems practices and avoid prohibited personnel practices. To support this research agenda, MSPB periodically conducts surveys of samples of Federal employees. To obtain insight into the current perspectives, MSPB requests approval to conduct additional surveys over the next three years.

The content of these surveys will focus on the career progression strategies utilized by Federal employees. In particular, we will examine if advancement techniques vary between groups of employees and evaluate the outcomes associated with each approach. We also plan to identify perceptions held by employees regarding discrimination and strategies that may have been used to overcome this potential barrier. In addition to the primary survey which is designed to cover all employees, we may also design a limited number of more narrowly focused surveys, which address issues unique to subpopulations of Federal employees (e.g., people with disabilities).

Burden Statement: The annual public reporting and record keeping burden for this collection of information is estimated to average 0.5 hours per respondent.

Respondents/Affected Entities: Participants are selected via stratified random sampling to facilitate a representative sample of Federal employees.

Estimated Number of Respondents: 46,000.

Frequency of Response: Once.

Estimated Total Annual Hour Burden: 23,000.

Dated: November 14, 2006.
Matthew Shannon,
Deputy Clerk of the Board.

[FR Doc. E6-19521 Filed 11-17-06; 8:45 am]

BILLING CODE 7401-01-P